DEPARTMENT OF COMMERCE

International Trade Administration

[A-427-801, A-428-801, A-475-801, A-588-804, A-412-801]

Ball Bearings and Parts Thereof From France, Germany, Italy, Japan, and the United Kingdom: Final Results of Antidumping Duty Administrative Reviews, Final Results of Changed-Circumstances Review, and Revocation of an Order in Part

AGENCY: Import Administration, International Trade Administration, Department of Commerce.

SUMMARY: On April 28, 2010, the Department of Commerce published the preliminary results of the administrative reviews of the antidumping duty orders on ball bearings and parts thereof from France, Germany, Italy, Japan, and the United Kingdom. The reviews cover 22 manufacturers/exporters. The period of review is May 1, 2008, through April 30, 2009.

Based on our analysis of the comments received, we have made changes, including corrections of certain programming and other ministerial errors, in the margin calculations. Therefore, the final results are different from the preliminary results for certain companies. The final weighted-average dumping margins for the reviewed firms are listed below in the section entitled “Final Results of the Reviews.” We have also determined that myonic GmbH, a firm which is subject to the order on ball bearings and parts thereof from Germany, is the successor-in-interest to the pre-acquisition myonic GmbH. Finally, we are announcing our revocation of the order on ball bearings and parts thereof from the United Kingdom in part with respect to subject merchandise exported and/or sold by Barden/Schaeffler UK ¹ to the United States.

¹ The Barden Corporation (UK) Limited/Schaeffler Group (UK) Limited.

DATES: Effective Date: September 1, 2010.

FOR FURTHER INFORMATION CONTACT: Thomas Schauer or Richard Rimlinger, AD/CVD Operations, Office 5, Import Administration, International Trade Administration, U.S. Department of Commerce, 14th Street and Constitution Avenue, NW., Washington, DC 20230; telephone: (202) 482-0410 or (202) 482-4477, respectively.

SUPPLEMENTARY INFORMATION:

Background

On April 28, 2010, the Department of Commerce (the Department) published the preliminary results of the administrative reviews of the antidumping duty orders on ball bearings and parts thereof from France, Germany, Italy, Japan, and the United Kingdom. See Ball Bearings and Parts Thereof From France, et al.: Preliminary Results of Antidumping Duty Administrative Reviews, Preliminary Results of Changed-Circumstances Review, Rescission of Antidumping Duty Administrative Reviews In Part, and Intent To Revoke Order In Part, 75 FR 22384 (April 28, 2010), and Ball Bearings and Parts Thereof from France, Germany, Italy, Japan, and the United Kingdom: Preliminary Results of Antidumping Duty Administrative Reviews, Preliminary Results of Changed-Circumstances Review, Rescission of Antidumping Duty Administrative Reviews in Part, and Intent To Revoke Order In Part, 75 FR 26920 (May 13, 2010) (collectively, Preliminary Results). For these administrative reviews, the period of review is May 1, 2008, through April 30, 2009.

We invited interested parties to comment on the Preliminary Results. We received case and rebuttal briefs from various parties to the proceedings. No hearing was requested.

The Department has conducted these administrative reviews in accordance with section 751 of the Tariff Act of 1930, as amended (the Act).

Scope of the Orders

The products covered by the orders are ball bearings and parts thereof. These products include all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written descriptions of the scope of the orders remain dispositive.

The size or precision grade of a bearing does not influence whether the bearing is covered by one of the orders. The orders cover all the subject bearings and parts thereof (inner race, outer race, cage, rollers, balls, seals, shields, etc.) outlined above with certain limitations. With regard to finished parts, all such parts are included in the scope of the orders. For unfinished parts, such parts are included if they have been heat-treated or if heat treatment is not required to be performed on the part. Thus, the only unfinished parts that are not covered by the orders are those that will be subject to heat treatment after importation. The ultimate application of a bearing also does not influence whether the bearing is covered by the orders. Bearings designed for highly specialized applications are not excluded. Any of the subject bearings, regardless of whether they may ultimately be utilized in aircraft, automobiles, or other equipment, are within the scope of the orders.

For a list of scope determinations which pertain to the orders, see the “Memorandum to Laurie Parkhill” regarding scope determinations for the 2008/2009 reviews, dated April 21, 2010, which is on file in the Central Records Unit (CRU) of the main Department of Commerce building, room 1117, in the General Issues record (A-100-001).

Analysis of the Comments Received

All issues raised in the case briefs by parties to these administrative reviews of the antidumping duty orders on ball bearings and parts thereof are addressed in the “Issues and Decision Memorandum” (Decision Memorandum) from Edward C. Yang, Acting Deputy Assistant Secretary for Antidumping and Countervailing Duty Operations, to Ronald K. Lorentzen, Deputy Assistant Secretary for Import Administration, dated concurrently with this notice, which is hereby adopted by this notice. A list of the issues which parties have raised and to which we have responded is in the Decision Memorandum and attached to this notice as an Appendix. The Decision Memorandum, which is a public document, is on file in the CRU of the main Department of Commerce building, Room 1117, and is accessible on the Web at http://ia.ita.doc.gov/frn/index.html. The paper copy and electronic version of the Decision Memorandum are identical in content.

Revocation of Order in Part

In the Preliminary Results, we preliminarily determined that Barden/Schaeffler UK qualifies for revocation from the order on ball bearings and parts thereof from the United Kingdom pursuant to 19 CFR 351.222(b)(2)(i). Accordingly, in accordance with 19 CFR 351.222(b)(2)(ii), we preliminarily determined to revoke the order with respect to ball bearings and parts thereof from the United Kingdom exported and/or sold by Barden/Schaeffler UK to the United States.

We have received comments concerning our intent to revoke the order on ball bearings and parts thereof from the United Kingdom exported and/or sold by Barden/Schaeffler UK to the United States. See the Decision Memorandum at Comment 4 for further discussion of this issue. In accordance with 19 CFR 351.222(b)(2)(ii), we are revoking the order on ball bearings and parts thereof from the United Kingdom exported and/or sold by Barden/Schaeffler UK to the United States, effective May 1, 2009.

Final Results of Changed-Circumstances Review

In the Preliminary Results, we preliminarily determined that myonic GmbH is the successor-in-interest to the pre-acquisition myonic GmbH and invited interested parties to comment. We received no comments from interested parties. For the reasons we stated in the Preliminary Results and because we received no comments to the contrary from interested parties, we continue to determine that the post-acquisition myonic GmbH is the successor-in-interest to the pre-acquisition myonic GmbH. Consequently, we will instruct U.S. Customs and Border Protection (CBP) to continue to apply the cash-deposit rate in effect for myonic GmbH to all entries of the subject merchandise from myonic GmbH that were entered, or withdrawn from warehouse, for consumption on or after the date of publication of these final results of changed-circumstances review.

Rates for Non-Selected Companies

Based on our analysis of the responses and our available resources, we selected certain companies for individual examination of their sales of the subject merchandise to the United States during the period of review as permitted under section 777A(c)(2) of the Act. For a detailed discussion on the selection of the respondents for individual examination, see Preliminary Results, 75 FR at 22385. For the final results, we have not changed the basis of the rate we applied to respondents not selected for individual examination. With respect to the sole company not selected in the Germany proceeding, however, we have used publicly available ranged sales values submitted by myonic GmbH and Schaeffler KG to calculate a weighted-average margin to assign to SKF GmbH instead of assigning the simple-average margin calculated using the margins we determined for myonic GmbH and Schaeffler KG, as announced in the Preliminary Results. For a discussion of this issue, see the Decision Memorandum at Comment 1. See also the memorandum to the file, dated concurrently with this notice, entitled “Ball Bearings and Parts Thereof from Germany: Final Calculation of the Margin for Respondent Not Selected for Individual Examination” on the record of the Germany proceeding (A-428-801).

Our calculation of the final margin for the sole non-selected company in the Germany administrative review represents a change in our practice concerning the margin applicable to companies not selected for individual examination in an administrative review of an antidumping duty order. In situations where we cannot apply our normal methodology of calculating a weighted-average margin due to requests to protect business-proprietary information but where use of a simple average does not yield the best proxy of the weighted-average margin relative to publicly available data, normally we will use the publicly available figures as a matter of practice in future cases.

With respect to the Japan proceeding, one company selected for individual examination used the indexing method permitted under 19 CFR 351.304(c) in the public version of its response to our request for information concerning the quantity and value of U.S. sales during the period of review. Therefore, unlike in the Germany proceeding where public, ranged data are available for all of the companies that were selected for individual examination, similar information is not available for all such companies in the Japan proceeding. Accordingly, we cannot calculate a weighted-average margin to consider applying to the non-selected respondents in the Japan proceeding as we have calculated for the Germany proceeding. Instead, as explained in the Preliminary Results, we have determined to apply the simple average of the margins we calculated for the selected companies to the companies not selected for individual examination in the Japan proceeding.

Changes Since the Preliminary Results

Based on our analysis of comments received and based on our own analysis of the Preliminary Results, we have made revisions that have changed the results for certain companies. We have corrected programming and ministerial errors in the margins we included in the Preliminary Results, where applicable. A detailed discussion of each correction we made is in the company-specific analysis memoranda dated concurrently with this notice, which are on file in the CRU of the main Department of Commerce building, Room 1117.

Final Results of the Reviews

We determine that the following percentage weighted-average dumping margins on ball bearings and parts thereof exist for the period May 1, 2008, through April 30, 2009:

Company | Margin (percent)
FRANCE
SKF France S.A. | 6.86
Microturbo SAS | 6.86
GERMANY
myonic GmbH | 21.72
Schaeffler KG | 2.16
SKF GmbH | 6.59
ITALY
SKF Industrie S.p.A. | 13.04
Schaeffler Italia S.r.l. | 1.98
JAPAN
Aisin Seiki Company, Ltd. | 10.97
JTEKT Corporation | 10.97
Makino Milling Machine Company Limited | 10.97
Mazda Motor Corporation | 10.97
Nachi-Fujikoshi Corporation | 10.97
Nissan Motor Company, Ltd. | 10.97
NSK Ltd. | 8.48
NTN Corporation | 13.46
Sapporo Precision, Inc., and Tokyo Precision, Inc. | 10.97
Univance Corporation | 10.97
Yamazaki Mazak Trading Corporation | 10.97
UNITED KINGDOM
The Barden Corporation (UK) Limited/Schaeffler Group (UK) Limited | 0.00
NSK Bearings Europe Ltd. | 10.04
SKF (UK) Limited | 10.04
Timken UK Ltd. and Timken Aerospace UK Ltd. | 10.04

Assessment Rates

The Department shall determine, and CBP shall assess, antidumping duties on all appropriate entries. In accordance with 19 CFR 351.212(b)(1), we have calculated, whenever possible, an exporter/importer- (or customer-) specific assessment rate or value for merchandise subject to these reviews as described below.

The Department clarified its “automatic assessment” regulation on May 6, 2003. This clarification will apply to entries of subject merchandise during the period of review produced by companies selected for individual examination in the reviews for which the reviewed companies did not know their merchandise was destined for the United States. In such instances, we will instruct CBP to liquidate unreviewed entries at the country-specific all-others rate if there is no rate for the intermediate company(ies) involved in the transaction. For a full discussion of this clarification, see Antidumping and Countervailing Duty Proceedings: Assessment of Antidumping Duties, 68 FR 23954 (May 6, 2003).

For the companies which were not selected for individual examination, we will instruct CBP to apply the rates listed above to all entries of subject merchandise produced and/or exported by such firms.

We intend to issue liquidation instructions to CBP 15 days after publication of these final results of reviews.

Export Price

With respect to export-price (EP) sales, we divided the total dumping margins (calculated as the difference between normal value and EP) for each exporter's importer or customer by the total number of units the exporter sold to that importer or customer. We will direct CBP to assess the resulting per-unit dollar amount against each unit of merchandise in each of that importer's/customer's entries under the relevant order during the review period.

Constructed Export Price

For constructed export-price (CEP) sales, we divided the total dumping margins for the reviewed sales by the total entered value of those reviewed sales for each importer. We will direct CBP to assess the resulting percentage margin against the entered customs values for the subject merchandise on each of that importer's entries under the relevant order during the review period. See 19 CFR 351.212(b).

Cash-Deposit Requirements

To calculate the cash-deposit rate for each respondent, i.e., each exporter and/or manufacturer included in these reviews, we divided the total dumping margins for each company by the total net value of that company's sales of merchandise during the period of review subject to each order.

To derive a single deposit rate for each respondent, we weight-averaged the EP and CEP deposit rates (using the EP and CEP, respectively, as the weighting factors). To accomplish this when we sampled CEP sales (see Preliminary Results, 75 FR at 22385), we first calculated the total dumping margins for all CEP sales during the period of review by multiplying the sample CEP margins by the ratio of total days in the period of review to days in the sample weeks. We then calculated a total net value for all CEP sales during the period of review by multiplying the sample CEP total net value by the same ratio. Finally, we divided the combined total dumping margins for both EP and CEP sales by the combined total value of both EP and CEP sales to obtain the deposit rate.

We will direct CBP to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of subject merchandise entered, or withdrawn from warehouse, for consumption on or after the date of publication, as provided by section 751(a)(1) of the Act: (1) The cash-deposit rates for the reviewed companies will be the rates shown above; (2) for previously reviewed or investigated companies not listed above, the cash-deposit rate will continue to be the company-specific rate published for the most recent period; (3) if the exporter is not a firm covered in these reviews, a prior review, or the less-than-fair-value investigations but the manufacturer is, the cash-deposit rate will be the rate established for the most recent period for the manufacturer of the merchandise; (4) the cash-deposit rate for all other manufacturers or exporters will continue to be the all-others rate for the relevant order made effective by the final results of reviews published on July 26, 1993. See Final Results of Antidumping Duty Administrative Reviews and Revocation in Part of an Antidumping Duty Order, 58 FR 39729 (July 26, 1993). For ball bearings and parts thereof from Italy, see Antifriction Bearings (Other Than Tapered Roller Bearings) and Parts Thereof From France, et al.; Final Results of Antidumping Duty Administrative Reviews and Partial Termination of Administrative Reviews, 61 FR 66472, 66521 (December 17, 1996). These rates are the all-others rates from the relevant less-than-fair-value investigations. These deposit requirements shall remain in effect until further notice.

Notifications

This notice also serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results in accordance with sections 751(a)(1) and 777(i) of the Act.

Dated: August 26, 2010.
Ronald K. Lorentzen,
Deputy Assistant Secretary for Import Administration.

Appendix

1. Rate Selection for SKF Germany.

2. SKF's Bearing Kits.

3. Short-Term U.S. Interest Rate for Inventory-Carrying Costs.

4. Barden's Request for Revocation.

5. Deduction of CEP Profit.

6. Freight and Packing Revenue Offset Caps.

7. Importer-Specific Assessment Rates.

8. 15-Day Issuance of Liquidation Instructions.

9. Zeroing of Negative Margins.

[FR Doc. 2010-21839 Filed 8-31-10; 8:45 am]

BILLING CODE 3510-DS-P